Title 3—

The President

Proclamation 7852 of December 6, 2004

National Pearl Harbor Remembrance Day, 2004

By the President of the United States of America

A Proclamation

On a quiet Sunday morning, December 7, 1941, more than 2,400 Americans were killed in the attack on Pearl Harbor. On that day, life changed in America, and the course of history was altered forever.

Our citizens reacted to the attack with firm determination to defeat tyranny and secure our Nation. This enterprise required the commitment and effort of our entire country. At the height of the conflict, the United States had ships on every ocean and troops on five continents. In all, more than 16 million Americans wore the uniform of our Nation. They came from all walks of life. They served honorably and fought fiercely. At home, millions more contributed to the war effort, laboring for victory in our factories, on farms, and across America.

Today, we honor those who fought and died at Pearl Harbor, and we pay special tribute to the veterans of World War II. These heroes hold a cherished place in our history. Through their courage, sacrifice, and selfless dedication, they saved our country and preserved freedom. As we fight the war on terror, their patriotism continues to inspire a new generation of Americans who have been called to defend the blessings of liberty. Like those who have gone before them throughout our history, our troops fighting the war on terror are defending America from danger and liberating the oppressed.

The Congress, by Public Law 103-308, as amended, has designated December 7 of each year as “National Pearl Harbor Remembrance Day.”

NOW, THEREFORE, I, GEORGE W. BUSH, President of the United States of America, do hereby proclaim December 7, 2004, as National Pearl Harbor Remembrance Day. I encourage all Americans to observe this solemn occasion with appropriate ceremonies and activities. I urge all Federal agencies, interested organizations, groups, and individuals to fly the flag of the United States at half-staff this December 7 in honor of those who died as a result of their service at Pearl Harbor.

IN WITNESS WHEREOF, I have hereunto set my hand this sixth day of December, in the year of our Lord two thousand four, and of the Independence of the United States of America the two hundred and twenty-ninth.

B

[FR Doc. 04-27241

Filed 12-8-04; 9:21 am]

Billing code 3195-01-P